DEPARTMENT OF TRANSPORTATION

Federal Aviation Administration

14 CFR Part 71

[Docket No. FAA-2017-1188; Airspace Docket No. 17-AEA-23]

RIN 2120-AA66

Amendment of Class D Airspace and Class E Airspace; Wrightstown, NJ

AGENCY: Federal Aviation Administration (FAA), DOT.

ACTION: Final rule, correction.

SUMMARY: This action corrects a final rule published in the Federal Register on July 10, 2018, amending Class D and Class E airspace at McGuire Field (Joint Base McGuire-Dix-Lakehurst), and Class E airspace extending upward from 700 feet above the surface by updating the name and geographic coordinates of Ocean County Airport (formerly Robert J. Miller Airpark, Toms River, NJ). The document incorrectly identified Wrightstown, PA in the title. This action corrects the error to Wrightstown, NJ.

DATES: Effective 0901 UTC, September 13, 2018. The Director of the Federal Register approves this incorporation by reference action under title 1, Code of Federal Regulations, part 51, subject to the annual revision of FAA Order 7400.11 and publication of conforming amendments.

FOR FURTHER INFORMATION CONTACT: John Fornito, Operations Support Group, Eastern Service Center, Federal Aviation Administration, 1701 Columbia Avenue, College Park, Georgia 30337; telephone (404) 305-6364.

SUPPLEMENTARY INFORMATION:

History

The FAA published a final rule in the Federal Register (83 FR 31857, July 10, 2018) for Doc. No. FAA-2017-1188, amending Class D airspace, Class E airspace designated as an extension to a Class D surface area, and Class E airspace extending upward from 700 feet or more above the surface at McGuire Field (Joint Base McGuire-Dix-Lakehurst), Wrightstown, NJ (formerly McGuire AFB (Joint Base McGuire-Dix-Lakehurst), and Ocean County Airport, (formerly Robert J. Miller Airpark). The title incorrectly listed Wrightstown, PA. The title should read Wrightstown, NJ. This action corrects the error.

Class D and E airspace designations are published in paragraph 5000, 6004, and 6005, respectively, of FAA Order 7400.11B dated August 3, 2017, and effective September 15, 2017, which is incorporated by reference in 14 CFR part 71.1. The Class D and E airspace designations listed in this document will be published subsequently in the Order.

Correction to Final Rule

Accordingly, pursuant to the authority delegated to me, in the Federal Register of July 10, 2018 (83 FR 31857) FR Doc. 2018-14668, Amendment of Class D Airspace, and Class E Airspace for Wrightstown, NJ, is corrected as follows:

§ 71.1 [Amended]

AEA NJ D Wrightstown, NJ [Corrected]

On page 31857, column 1 line 32, remove Wrightstown, PA and add in its place Wrightstown, NJ.

Issued in College Park, Georgia, on August 15, 2018.
Ken Brissenden,
Acting Manager, Operations Support Group, Eastern Service Center, Air Traffic Organization.

[FR Doc. 2018-18036 Filed 8-22-18; 8:45 am]

BILLING CODE 4910-13-P